DEPARTMENT OF THE INTERIOR

Bureau of Land Management

[LLNVW00000.L16100000.DQ0000. LXSS015F0000 241A; 13-08807; MO# 4500049371; TAS: 14X5017]

Notice of Availability of the Proposed Winnemucca District Resource Management Plan and Final Environmental Impact Statement, NV

AGENCY: Bureau of Land Management, Interior.

ACTION: Notice of availability.

SUMMARY: In accordance with the National Environmental Policy Act of 1969, as amended, and the Federal Land Policy and Management Act of 1976 (FLPMA), as amended, the Bureau of Land Management (BLM) has prepared a Proposed Resource Management Plan (RMP)/Final Environmental Impact Statement (EIS) for the Winnemucca District and by this notice is announcing its availability.

DATES: BLM planning regulations provide that any person who meets the conditions as described in the regulations may protest the BLM's Proposed RMP/Final EIS (43 CFR 1610.5-2). A person who meets the conditions and files a protest must file the protest within 30 days of the date that the Environmental Protection Agency publishes its notice of availability of the Proposed RMP/Final EIS in the Federal Register.

ADDRESSES: Copies of the Proposed RMP/Final EIS are available for public inspection at the BLM Winnemucca District Office, 5100 E Winnemucca Boulevard, Winnemucca, Nevada. Interested persons may also review the Proposed RMP/Final EIS on the Internet at http://www.blm.gov/nv/st/en/fo/wfo/blm_information/rmp.html. All protests must be in writing and mailed to one of the following addresses:

Regular Mail: BLM Director (210), Attention: Brenda Williams, P.O. Box 71383, Washington, DC 20024-1383.

Overnight Mail: BLM Director (210), Attention: Brenda Williams, 20 M Street SE., Room 2134LM, Washington, DC 20003.

FOR FURTHER INFORMATION CONTACT: Jeff Johnson, RMP Team Lead, telephone: 775-861-6420; address: 5100 E Winnemucca Boulevard, Winnemucca, NV 89445; email wdrmp@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Winnemucca District Proposed RMP would replace the existing 1982 Sonoma-Gerlach and Paradise-Denio Management Framework Plans and the 1999 Paradise-Denio and Sonoma-Gerlach Management Framework Plan-Lands Amendment. The Proposed RMP/Final EIS has been developed using a collaborative planning process. Collaboration included working with nine cooperating agencies, development of alternatives using a sub-group of the Sierra Front-Northwestern Great Basin Resource Advisory Council, input through coordination and consultation with Native American/tribal interests, and input based on public scoping and public comments received on the Draft Resource Management Plan/Draft Environmental Impact Statement. The Winnemucca District Proposed RMP decision area encompasses approximately 7.4 million acres of public land administered by the BLM in Humboldt, Pershing, and parts of Lander, Lyon, Churchill, and Washoe counties, Nevada. The Proposed RMP does not include decisions on private lands, State lands, Indian reservations, Federal lands administered by other agencies or lands within the District's Black Rock Desert-Highrock Canyon, Emigrant Trails National Conservation Area (NCA), except for administratively combining portions of two wild horse herd management areas into one herd management area. The NCA is managed in accordance with the 2004 Record of Decision and Resource Management Plan for the Black Rock Desert-High Rock Canyon Emigrant Trails National Conservation Area and Associated Wilderness, and other Contiguous Lands in Nevada.

The Winnemucca District Proposed RMP/Final EIS includes goals, objectives and management actions for protecting and preserving natural resources including wildlife habitat, sensitive and threatened or endangered species habitat, watersheds, and wild horses and burros. The Proposed RMP/Final EIS also addresses protection and preserving cultural resources, scenic values, lands with wilderness characteristics, National Historic Trails, and management of recreation. Multiple uses are addressed including: Management and forage allocations for livestock grazing; delineation of lands open, closed, or subject to special stipulations or mitigation measures relating to minerals; and management of lands and realty actions, including delineation of avoidance and exclusion areas applicable to rights-of-ways and land tenure adjustments. Recreation management includes designation of off-highway vehicle management areas. Three new areas of critical environmental concern (ACECs) are proposed. The ACECs are proposed to protect natural and cultural resource values and traditional Native American use areas. The proposed Pine Forest ACEC contains important wildlife habitat values including habitat for sensitive species. The proposed Raised Bog ACEC contains a unique floating bog that is useful for scientific research. The proposed Stillwater ACEC contains important cultural resources and many traditional Native American use areas including traditional cultural properties. Management direction to protect sensitive plant species is proposed for the existing Osgood Mountain Milkvetch ACEC.

The Proposed RMP/Final EIS analyzes four management alternatives. Alternative A is the No Action Alternative, which is the continuation of current management; Alternative B emphasizes resource use; Alternative C emphasizes preservation and protection of ecosystems and contains two options: Option 1 allows livestock grazing and option 2 does not allow livestock grazing; and Alternative D, which is the Proposed RMP and provides a balance between resource protection and resource use.

Alternative D has been modified from the proposed alternative D in the Draft RMP/EIS based on public comments and input from the Cooperating Agencies. The proposed RMP balances resource uses and environmental protection, best fulfills the BLM's statutory mission and responsibilities as required under FLPMA, and complies with the BLM planning regulations.

The Winnemucca District worked with nine cooperating agencies in the development of the Proposed RMP. The Cooperating Agencies are: U.S. Fish and Wildlife Service, U.S. Bureau of Reclamation, Nevada Department of Wildlife, Nevada Department of Agriculture, Humboldt County, Pershing County, Washoe County, City of Winnemucca, and the N-2 Grazing Board.

The BLM issued a Notice of Intent to Prepare a Resource Management Plan and Associated Environmental Impact Statement and initiated the public scoping process on March 25, 2005 (70 FR 15348). The BLM accepted scoping comments for 60 days. The draft RMP/draft EIS was made available for a 90-day public comment period on June 25, 2010 (75 FR 36435).

The BLM received 1,348 comments and 30,617 form letters pertaining to wild horses and burros in response to the Draft RMP/Draft EIS. Substantive comments were reviewed and incorporated as appropriate into the proposed plan.

Notable issues raised in public comments include: Minerals, with an emphasis on areas available for minerals development; recreation management and designation of off-highway vehicle management areas; livestock grazing; fish and wildlife, including management of priority habitat; air quality; management of rights-of-way avoidance and exclusion areas; and management of wild horses and burros.

Copies of the Proposed Winnemucca District RMP/Final EIS have been sent to affected tribal, Federal, State, and local government agencies and to other stakeholders.

Instructions for filing a protest with the Director of the BLM regarding the Proposed RMP/Final EIS may be found in the “Dear Reader” letter of the Winnemucca District Proposed RMP/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to Brenda_Hudgens-Williams@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5

Amy Lueders,
State Director, Nevada.

[FR Doc. 2013-21766 Filed 9-5-13; 8:45 am]

BILLING CODE 4310-HC-P